DEPARTMENT OF EDUCATION

Office of Special Education and Rehabilitative Services; Special Education—Technology and Media Services for Individuals With Disabilities Program

AGENCY: Department of Education.

ACTION: Notice inviting applications for new awards for fiscal year (FY) 2001.

SUMMARY: This notice provides closing dates and other information regarding the transmittal of applications for two FY 2001 competitions under one program authorized by the Individuals with Disabilities Education Act (IDEA), as amended: Special Education—Technology and Media Services for Individuals with Disabilities.

National Education Goals

The eight National Education Goals focus the Nation's education reform efforts and provide a framework for improving teaching and learning.

This priority addresses the National Education Goals that promote new partnerships to strengthen schools and expand the Department's capacities for helping communities to exchange ideas and obtain information needed to achieve the goals.

These priorities would address the National Education Goals by helping to improve results for children with disabilities.

Waiver of Rulemaking

It is generally our practice to offer interested parties the opportunity to comment on proposed priorities. However, section 661(e)(2) of IDEA makes the Administrative Procedure Act (5 U.S.C. 553) inapplicable to the priorities in this notice.

General Requirements

(a) The projects funded under this notice must make positive efforts to employ and advance in employment qualified individuals with disabilities in project activities (see section 606 of IDEA).

(b) Applicants and grant recipients funded under this notice must involve individuals with disabilities or parents of individuals with disabilities in planning, implementing, and evaluating the projects (see section 661(f)(1)(A) of IDEA).

(c) The projects funded under these priorities must budget for a two-day Project Directors' meeting in Washington, DC during each year of the project.

(d) In a single application, an applicant must address only one absolute priority in this notice.

(e) Part III of each application submitted under a priority in this notice, the application narrative, is where an applicant addresses the selection criteria that are used by reviewers in evaluating the application. You must limit Part III to the equivalent of no more than the number of pages listed in the table at the end of this notice for each applicable priority, using the following standards:

• A “page” is 8.5″ × 11″ (on one side only) with one-inch margins (top, bottom, and sides).

• Double-space (no more than three lines per vertical inch) all text in the application narrative, including titles, headings, footnotes, quotations, and captions, as well as all text in charts, tables, figures, and graphs.

• If using a proportional computer font, use no smaller than a 12-point font, and an average character density no greater than 18 characters per inch. If using a nonproportional font or a typewriter, do not use more than 12 characters per inch.

The page limit does not apply to Part I, the cover sheet; Part II, the budget section, including the narrative budget justification; Part IV, the assurances and certifications; or the one-page abstract, the resumes, the bibliography or references, or the letters of support. However, you must include all of the application narrative in Part III.

We will reject without consideration or evaluation any application if—

• You apply these standards and exceed the page limit; or

• You apply other standards and exceed the equivalent of the page limit.

Pilot Project for Electronic Submission of Applications

The U.S. Department of Education is expanding its pilot project of electronic submission of applications. The program in this announcement is included in the pilot project. If you are an applicant for a grant under this 2 program, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit all documents electronically, including the Application for Federal Assistance (ED 424), Budget Information—Non-Construction Programs (ED 524), and all necessary assurances and certifications.

• Fax a signed copy of the Application for Federal Assistance (ED 424) after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center within three working days of submitting your electronic application. We will indicate a fax number in e-APPLICATION at the time of your submission.

• We may request that you give us original signatures on all other forms at a later date.

You may access the electronic grant application for the program at: http://e-grants.ed.gov

We have included additional information about the e-APPLICATION pilot project (see Parity Guidelines between Paper and Electronic Applications) in the application package.

Note: Some of the procedures in these instructions for transmitting applications differ from those in the Education Department General Administrative Regulations (EDGAR) (34 CFR 75.102). Under the Administrative Procedure Act (5 U.S.C. 553) the Department generally offers interested parties the opportunity to comment. However, these amendments make procedural changes only and do not establish new substantive policy. Therefore, under 5 U.S.C. 553(b)(A), the Secretary has determined that proposed rulemaking is not required.

Technology and Media Services for Individuals With Disabilities (CFDA 84.327)

Purpose of Program: The purpose of this program is to promote the development, demonstration, and utilization of technology and to support educational media activities designed to be of educational value to children with disabilities. This program also provides support for some captioning, video description, and cultural activities.

Applicable Regulations: (a) The Education Department General Administrative Regulations (EDGAR) in 34 CFR parts 74, 75, 77, 79, 80, 81, 82, 85, 86, 97, 98, and 99; (b) The selection criteria for the priorities under this program are drawn from the EDGAR general selection criteria menu. The specific selection criteria for each priority are included in the funding application packet for the applicable competition.

Note: The regulations in 34 CFR part 86 apply to institutions of higher education only.

Eligible Applicants: State and local educational agencies; institutions of higher education; other public agencies; private nonprofit organizations; outlying areas; freely associated States; Indian tribes or tribal organizations; and for-profit organizations.

Priority

Under section 687 of IDEA and 34 CFR 75.105(c)(3), we consider only applications that meet the following priorities:

Absolute Priority 1—Cultural Experiences for Deaf or Hard of Hearing Individuals (84.327T)

Background

Past projects funded under this priority supported a variety of activities, including: theatrical experiences in which cast members included deaf, hard-of-hearing, and hearing performers; theater and set design, directing, dance, and storytelling; cultural experiences focusing on Native American art and culture; hands-on theatre experience involving persons from minority groups; a touring “instant theater;” producing videos of performances and documentaries of performances; and drama workshops.

Priority

This priority supports a variety of cultural activities designed to enrich the lives of deaf or hard-of-hearing individuals, children, or adults. These activities must use an approach that integrates deaf or hard-of-hearing individuals with those who can hear, while conducting cultural experiences that will increase public awareness and understanding of deafness, deaf culture, and of the artistic and intellectual achievements of deaf and hard-of-hearing individuals.

A grantee may not use funds under this priority for passive activities, such as viewing a play or video or passively watching a storyteller or artist at work.

To be considered for funding under this priority, a project must—

(a) Use an integrated approach that mixes children or adults who are deaf or hard-of-hearing with those who are hearing in carrying out project activities; and

(b) Develop and implement strategies that will increase public awareness and understanding of deafness, deaf culture, and of the artistic and intellectual achievements of deaf and hard-of-hearing individuals. Outreach activities such as promoting the project to schools, community organizations, news media, and relevant national organizations are encouraged.

Invitational Priority

Within this absolute priority, the Secretary is particularly interested in applications that meet the following invitational priority. However, pursuant to 34 CFR 75.105(c)(1), an application that meets this invitational priority does not receive competitive or absolute preference over applications that do not meet this priority:

Projects that include people from a variety of cultural, racial, or ethnic backgrounds.

Competitive Preference

Within this absolute priority, we will give the following competitive preference points under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of this competitive preference, applicants can be awarded up to a total of 10 points in addition to those awarded under the published selection criteria for this priority. That is, an applicant meeting this competitive preference could earn a maximum total of 110 points.

Project Period: Up to 36 months.

Maximum Award: The maximum award amount is $110,000 per year. Consistent with EDGAR 34 CFR 75.104(b), we will reject any application that proposes a project funding level for any year that exceeds the stated maximum award amount for that year.

Page Limits: The maximum page limit for this priority is 50 double-spaced pages.

Note: Applications must meet the required page limit standards that are described in the “General Requirements” section of this notice.

Absolute Priority 2—Center to Support Technology Innovation for Students With Disabilities (84.327Z) Background

Technology can dramatically improve early intervention and educational results for infants, toddlers, and children with disabilities, whether it is designed specifically for use by individuals with disabilities, or for a general population and is accessible for individuals with disabilities.

The Federal government has a number of programs that may augment the benefits of technology for infants, toddlers, and children with disabilities. For example, programs in the Office of Special Education Programs (OSEP) and in the National Institute on Disability and Rehabilitation Research (NIDRR) support a range of technology innovation and implementation efforts focused on the needs of individuals with disabilities. Other Federal programs have the potential to provide support in this area as well. These include, but are not limited to:

(a) Technology research and innovation programs offered in other offices in the Department of Education (e.g., Small Business Innovation Research);

(b) The Access Board and the Federal Information Technology Accessibility Initiative (FITAI) that promote technology accessibility; and

(c) Technology research, development, and transfer programs operated by other Federal agencies (e.g., National Aeronautics and Space Administration, Department of Defense, National Science Foundation).

Technology benefits can also be enhanced by federally-supported technical assistance and dissemination projects sponsored by OSEP (e.g., Regional and Federal Resource Centers, Partnership Projects, and the Center to Link Urban Schools (LINK US)), and other projects in the Department of Education (e.g., Regional Educational Laboratories, ABLEDATA Database Program).

Non-Federal resources and efforts can affect the benefits that infants, toddlers, and children with disabilities derive from technology. These include, but are not limited to:

(a) State and local policies (e.g., technology acquisition standards, policies for program access);

(b) State and local programs and resources (e.g., technology programs and personnel, including numerous innovative technology efforts);

(c) Teacher training and professional development programs offered by State and local educational agencies and institutions of higher education;

(d) Efforts by professional groups and trade associations (e.g., the Technology and Media Division of the Council for Exceptional Children, the Quality Indicators for Assistive Technology (QIAT) Consortium, the Schools Interoperability Framework (SIF) sponsored by the Software and Information Industry Association);

(e) Technology products that are commercially developed and distributed; and

(f) Public-private partnerships focusing on technology (e.g., the IMS Global Learning Consortium and the federally-funded Specifications for Accessible Learning Technologies (SALT) Partnership, the Center for Innovative Learning Technologies (CILT)).

In addition, general trends and developments in technology and instruction affect the benefits derived from technology. These include, but are not limited to:

(a) The development of faster, smaller, and cheaper computers;

(b) Increased use of wireless communications;

(c) Increased speed and capacity of the internet;

(d) Use of new information models (e.g., extensible markup language (XML));

(e) Increased use of special-purpose and “ubiquitous” computers (e.g., computers in appliances, TVs, and telephones); and

(f) New technology-based instructional approaches (e.g., distance learning, simulations).

Clearly, the benefits that infants, toddlers, and children with disabilities can derive from technology are influenced by a number of programs, policies, resources, professional activities, trends, and other factors. It would be useful if all of these factors collectively contributed to maximizing the benefits of technology for this population of children.

However, such an outcome cannot be assumed. Technology innovations will not result in widespread benefits unless they are disseminated effectively. Commercially developed products may not benefit infants, toddlers, and children with disabilities unless they are designed to meet their needs. Special education researchers and technology developers cannot draw upon technology innovations and trends of which they are unaware.

Priority

This priority will support a Center to improve the use of technology to achieve better early intervention and educational results for infants, toddlers, and children with disabilities by: (a) Cultivating a collaborative network; (b) analyzing, synthesizing, and disseminating research-based and best practice information; (c) promoting the distribution and use as appropriate of technology-related products and approaches with potential to improve results, including products and approaches developed with OSEP funding; and (d) analyzing needs, issues, trends, and promising approaches.

(a) The Center's activities for cultivating a collaborative network must include, but are not limited to:

(1) Developing and updating on a regular basis a database of projects (including OSEP-funded projects), agencies, professional and trade associations, commercial companies, and other organizations and entities as discussed in the background section that may contribute to the Center's efforts to improve the use of technology to achieve better results. This database is to be posted on the web site.

(2) Forming an advisory board of eight to ten representatives with various perspectives, and maintaining communication with this board, including convening an annual meeting in Washington, DC. The purpose of this board is to review and comment at least annually on the Center's plans and evaluation findings, and to provide additional advisory support as needed. Perspectives to be represented on the advisory board must include, but are not limited to: technology developers, technology researchers, Federal agencies and programs, commercial vendors, technical assistance providers, personnel preparation programs, teachers and other service providers, persons with disabilities who use technology, and parents of children with disabilities.

(3) Developing and implementing procedures to collect information on relevant activities of the entities identified in paragraph (1).

(4) Distributing a quarterly e-mail newsletter (with links to the web site) describing the activities of the Center and of other members of the network, including the activities of OSEP-funded projects, in improving the use of technology to achieve better results.

(b) The Center's activities for analyzing, synthesizing, and disseminating research-based and best practice information must be targeted to audiences of practitioners, administrators, policymakers, parents, children, and other audiences as appropriate. These activities must include, but are not limited to:

(1) Completing and disseminating one to four syntheses of research and best practice knowledge per year on topics related to the effective use of technology to achieve better results. The results of these syntheses must be packaged in formats suitable for the target audiences, as well as technology researchers and developers. Products must include a series of research briefs announced in the newsletter and posted on the web site.

(2) Completing and disseminating at least one video package per year designed for use in teacher training, staff development, program improvement, and similar efforts presenting research-based, and best-practice information on the use of technology to achieve better results. Each package must include one 15 to 20 minute video and supporting materials intended for target audiences as previously described.

(3) Conducting technical assistance, dissemination or training activities for target audiences. The Center must conduct at least two of these activities in the first year and at least four in each subsequent year. These activities must be conducted in collaboration with other members of the network. The activities may draw upon OSEP-sponsored projects and other sources, including the materials developed by the Center. The activities must be designed to disseminate research-based and best practice information on using technology to achieve better results.

(c) The Center's activities for promoting the distribution and use as appropriate of technology-related products and approaches with potential to improve results, including products and approaches developed with OSEP funding, must include, but are not limited to:

(1) Maintaining a listing of commercial and noncommercial resources for disseminating findings and products of technology projects, and including these resources in the network.

(2) Providing technical assistance and training for developers of technology-related products and approaches on developing high quality and marketable products, and finding dissemination or marketing resources. This technical assistance and training may be delivered in conjunction with the annual meeting on technology and infants, toddlers and children with disabilities described in this priority.

(3) Including information about technology-related products and approaches with potential to improve results in the newsletter, and providing follow-up information to potential dissemination or marketing resources.

(d) The Center's activities for analyzing needs, issues, trends, and promising approaches must include, but are not limited to:

(1) Annually convening from one to four consensus panels of experts to focus on specific needs, issues, trends, and promising approaches, and produce documents describing implications for using technology to achieve better results. Consensus panels may involve preparation of background papers prior to meetings. The Center must post all background papers and the products of consensus panels on the web site.

(2) Maintaining ongoing collection of information on developments in government, private industry, early intervention, education, and similar arenas relevant to needs, issues, trends, and promising approaches. This information must be reported in the newsletter and on the web site.

In addition to, and supportive of the activities listed previously, the Center must do all of the following:

(a) Maintain a web site that includes: The network database, on-line documents and products of the Center activities, on-line descriptions of products developed by OSERS-funded projects, links to web resources (including all web sites maintained by OSERS-funded projects involved in technology innovation), articles linked to the newsletter, and discussion groups. This web site must conform to all relevant standards regarding accessibility.

(b) Conduct an annual meeting in Washington DC on technology and infants, toddlers, and children with disabilities. This meeting must include approximately 110 directors of OSEP-sponsored projects involved in technology innovations, and 20 other local participants representing Federal agencies, professional groups, etc. The Center must pay for travel and lodging for an estimate of 85 project directors (the remaining participants are local or will pay for their travel with their own project funds). The conference must include a demonstration event of OSEP-supported technologies.

(c) Meet with OSEP staff during the first month of each project year to discuss and obtain approval for plans for the year.

(d) Conduct project evaluation activities to ascertain the quality of the Center's activities and products, and to determine the Center's progress toward improving the use of technology to achieve better results.

(e) Submit quarterly reports describing and documenting Center activities, including results of the evaluation activities described in the previous paragraph.

Accessibility: All products developed by the Center must conform to relevant standards of accessibility, including captioning all videos and providing alternative formats for written materials.

Competitive Preferences

Within this absolute priority, we will award the following competitive preference points under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of this competitive preference, applicants can be awarded up to a total of 10 points in addition to those awarded under the published selection criteria for this priority. That is, an applicant meeting this competitive preference could earn a maximum total of 110 points.

Project Period: Under this priority, we will make one award for a cooperative agreement for a project period of up to 60 months subject to the requirements of 34 CFR 75.253(a) for continuation awards. In deciding whether to continue the Center for the fourth and fifth years, we will consider the requirements of 34 CFR 75.253(a), and in addition—

(a) The recommendation of a review team consisting of experts selected by the Secretary, which review will be conducted during the last half of the project's second year in Washington DC. Projects must budget for travel associated with this review;

(b) The timeliness and effectiveness with which all requirements of the negotiated cooperative agreement have been or are being met by the Center; and

(c) The degree to which the Center is making a positive contribution to improving the use of technology to achieve better results for infants, toddlers, and children with disabilities.

Maximum Award: The maximum award amount is $750,000 for the first budget period of 12 months and $1,000,000 for subsequent budget periods of 12 months. Consistent with EDGAR 34 CFR 75.104(b), we will reject any application that proposes a budget funding level for any year that exceeds the stated maximum award amount for that year.

Page Limits: The maximum page limit for this priority is 60 double-spaced pages.

Note: Applications must meet the required page limit standards that are described in the “General Requirements” section of this notice.

For Applications Contact: Education Publications Center (ED Pubs), P.O. Box 1398, Jessup, Maryland 20794-1398. Telephone (toll free): 1-877-4ED-Pubs (1-877-433-7827). FAX: 301-470-1244. Individuals who use a telecommunications device for the deaf (TDD) may call (toll free) 1-877-576-7734.

You may also contact Ed Pubs via its Web site (http://www.ed.gov/pubs/edpubs.html) or its E-mail address (edpubs@inet.ed.gov).

If you request an application from ED Pubs, be sure to identify these competitions as follows: CFDA 84.327T and CFDA 84.327Z.

FOR FURTHER INFORMATION CONTACT: Grants and Contracts Services Team, U.S. Department of Education, 400 Maryland Avenue, S.W., room 3317, Switzer Building, Washington, D.C. 20202-2550. Telephone: (202) 260-9182.

If you use a TDD you may call the Federal Information Relay Service (FIRS) at 1-800-877-8339.

Individuals with disabilities may obtain this document in an alternative format (e.g., Braille, large print, audiotape, or computer diskette) on request to the contact persons listed in the preceding paragraph.

Individuals with disabilities may obtain a copy of the application package in an alternative format by contacting the Department as listed above. However, the Department is not able to reproduce in an alternative format the standard forms included in the application package.

Intergovernmental Review

This notice is subject to the requirements of Executive Order 12372 and the regulations in 34 CFR part 79. The objective of the Executive order is to foster an intergovernmental partnership and a strengthened federalism by relying on processes developed by State and local governments for coordination and review of proposed Federal financial assistance.

In accordance with the order, we intend this document to provide early notification of the Department's specific plans and actions for those programs.

Individuals With Disabilities Education Act Application Notice for Fiscal Year 2001
CFDA No. and name | Applications available | Application deadline date | Deadline for Intergovernmental review | Maximum award (per year)\*\ | Project period | Page limit\**\ | Estimated number of awards
84.327T Cultural Experiences for Deaf or Hard of Hearing Individuals | 05/25/01 | 07/09/01 | 09/10/01 | $110,000 | Up to 36 mos | 50 | 5
84.327Z Center to Support Technology Innovation for Students with Disabilities | 05/25/01 | 07/20/01 | 09/20/01 |  | Up to 60 mos | 60 | 1
First twelve-month funding period |  |  |  | 750,000 |  |  |
Subsequent twelve-month funding periods |  |  |  | 1,000,000 |  |  |
* Consistent with EDGAR 34 CFR 75.104(b), we will reject any application that proposes a project funding level for any year that exceeds the stated maximum award amount for that year.
** Applicants must limit the Application Narrative, Part III of the Application, to the page limits noted above. Please refer to the “Page Limit” requirements included under each priority description and the page limit standards described in the “General Requirements” section. We will reject and will not consider an application that does not adhere to this requirement.

Electronic Access to This Document

You may view this document, as well as all other Department of Education documents published in the Federal Register, in text or portable document format (PDF) on the internet at the following site: www.ed.gov/legislation/FedRegister

To use PDF you must have Adobe Acrobat Reader, which is available free at the previous site. If you have questions about using PDF, call the U.S. Government Printing Office (GPO), toll free, at 1-888-293-6498; or in the Washington, DC., area at (202) 512-1530.

Note: The official version of this document is the document published in the Federal Register. Free Internet access to the official edition of the Federal Register and the Code of Federal Regulations is available on GPO Access at: http://www.access.gpo/nara/index.html

Program Authority: 20 U.S.C. 1487.

Dated: May 14, 2001.
Francis V. Corrigan,
Deputy Director, National Institute on Disability and Rehabilitation Research.

[FR Doc. 01-12519 Filed 5-17-01; 8:45 am]

BILLING CODE 4000-01-U